DEPARTMENT OF TRANSPORTATION

National Highway Traffic Safety Administration

[Docket No. NHTSA-2021-0070]

Agency Information Collection Activities; Notice and Request for Comment; Incident Reporting for Automated Driving Systems (ADS) and Level 2 Advanced Driver Assistance Systems (ADAS)

AGENCY: National Highway Traffic Safety Administration (NHTSA), Department of Transportation (DOT).

ACTION: Notice and request for comments on a request for extension of a currently approved information collection.

SUMMARY: The National Highway Traffic Safety Administration (NHTSA) invites public comments about our intention to request approval from the Office of Management and Budget (OMB) for an extension of a currently approved information collection. Before a Federal agency can collect certain information from the public, it must receive approval from OMB. Under procedures established by the Paperwork Reduction Act of 1995, before seeking OMB approval, Federal agencies must solicit public comment on proposed collections of information, including extensions and reinstatements of previously approved collections. This document describes NHTSA's information collection for incident reporting requirements for Automated Driving Systems (ADS) and Level 2 Advanced Driver Assistance Systems (ADAS). NHTSA recently requested emergency review of its request for approval of this information collection and received a six-month approval. NHTSA now intends to follow the normal clearance procedures and request OMB's approval for a three-year extension of this currently approved information collection.

DATES: Comments must be submitted on or before November 29, 2021.

ADDRESSES: You may submit comments identified by the Docket No. NHTSA-2021-0070 through any of the following methods:

• Electronic submissions: Go to the Federal eRulemaking Portal at http://www.regulations.gov. Follow the online instructions for submitting comments.

• Fax: (202) 493-2251.

• Mail or Hand Delivery: Docket Management, U.S. Department of Transportation, 1200 New Jersey Avenue SE, West Building, Room W12-140, Washington, DC 20590, between 9 a.m. and 5 p.m., Monday through Friday, except on Federal holidays. To be sure someone is there to help you, please call (202) 366-9322 before coming.

Instructions: All submissions must include the agency name and docket number for this notice. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov or the street address listed above. Follow the online instructions for accessing the dockets via internet.

FOR FURTHER INFORMATION CONTACT: For additional information or access to background documents, contact Jeff Eyres, Office of Chief Counsel, telephone (202) 913-4307, or email at jeffrey.eyres@dot.gov, U.S. Department of Transportation, 1200 New Jersey Avenue SE, Washington, DC 20590.

SUPPLEMENTARY INFORMATION: Under the Paperwork Reduction Act of 1995 (44 U.S.C. 3501 et seq.), before an agency submits a proposed collection of information to OMB for approval (including a request for an extension of a currently approved collection), it must first publish a document in the Federal Register providing a 60-day comment period and otherwise consult with members of the public and affected agencies concerning each proposed collection of information. The OMB has promulgated regulations describing what must be included in such a document. Under OMB's regulation (5 CFR 1320.8(d)), an agency must ask for public comment on the following: (a) Whether the proposed collection of information is necessary for the proper performance of the functions of the agency, including whether the information will have practical utility; (b) the accuracy of the agency's estimate of the burden of the proposed collection of information, including the validity of the methodology and assumptions used; (c) how to enhance the quality, utility, and clarity of the information to be collected; and (d) how to minimize the burden of the collection of information on those who are to respond, including the use of appropriate automated, electronic, mechanical, or other technological collection techniques or other forms of information technology, e.g. permitting electronic submission of responses. In compliance with these requirements, NHTSA asks for public comments on the following proposed extension of a currently approved collection of information, for which the agency is seeking approval from OMB.

Title: Incident Reporting for Automated Driving Systems (ADS) and Level 2 Advanced Driver Assistance Systems (ADAS).

OMB Control Number: 2127-0754.

Form Number(s): Form 1612.

Type of Request: Approval of an extension of a currently approved collection of information.

Type of Review Requested: Regular.

Requested Expiration Date of Approval: 3 years from date of approval.

Summary of the Collection of Information: The currently approved information collection request (ICR) for which NHTSA intends to request an extension requires certain manufacturers of motor vehicles and equipment and operators of motor vehicles to submit incident reports for certain crashes involving Automated Driving Systems (ADS) and Level 2 Advanced Driver Assistance Systems (ADAS). These crash reporting obligations are set forth in NHTSA's Standing General Order 2021-01 (General Order), which requires those manufacturers and operators named in and served with the General Order to report crashes that meet specified criteria to NHTSA.¹

¹ A copy of the General Order is available on NHTSA's website at https://www.nhtsa.gov/laws-regulations/standing-general-order-crash-reporting-levels-driving-automation-2-5.

Specifically, the General Order requires the named manufacturers and operators (the reporting entities) to submit reports if they receive notice of certain crashes involving an ADS or Level 2 ADAS equipped vehicle that occur on publicly accessible roads in the United States. To be reportable, the vehicle, the ADS, or the Level 2 ADAS must have been manufactured by the reporting entity or the vehicle must have been operated by a reporting entity at the time of the crash, and the ADS or Level 2 ADAS must have been engaged at the time of or immediately before (≤30 seconds) the crash. The reporting obligations are limited to those entities named in and served with the General Order. The General Order imposes no reporting obligations on any other companies and likewise imposes no reporting obligations on any individual consumers.

In the event of a reportable crash, the General Order requires the reporting entity to submit an incident report electronically to NHTSA. The required report includes basic information sufficient for NHTSA to identify those crashes warranting follow-up. Crashes involving ADS or Level 2 ADAS equipped vehicles that meet specified criteria must be reported within one calendar day after the reporting entity receives notice of the crash, and other crashes involving ADS equipped vehicles must be reported on a monthly basis. The reporting obligations in the General Order are specific to these crashes, which are a primary source of information regarding potential defects in ADS or Level 2 ADAS.

Under Request No. 1 of the General Order, a reporting entity must report any crash involving an ADS or Level 2 ADAS equipped vehicle that results in any individual being transported to a hospital for medical treatment, a fatality, a vehicle tow-away, or an air bag deployment or involves a vulnerable road user. Under these circumstances, the reporting entity must submit a report within one day after the reporting entity receives notice of the crash, and an updated report is due 10 days after receiving notice.

The 10-day report utilizes the same form and requests the same information as the one-day report. The 10-day report is a required follow up to the one-day report because it is anticipated that, for some of these reportable crashes, the reporting entity will have minimal information on the day after it first receives notice. The General Order therefore requires both the one-day report, to give the agency prompt notice of a crash that may justify immediate follow up, and the 10-day report, to give the reporting entity more time to gather information required by the incident report form. No additional or incremental information is required for the 10-day report.

Separately, under Request No. 2 of the General Order, a reporting entity must report any crash involving an ADS equipped vehicle that does not meet the previous criteria but nonetheless involves personal injury or property damage on the fifteenth day of the month after the reporting entity receives notice of the crash. Under Request No. 3 of the General Order, a reporting entity that receives new material or materially different information regarding a crash previously reported to NHTSA is required to file an updated report the following month. Finally, under Request No. 4 of the General Order, a reporting entity that has no new or updated crash reports under Request No. 2 or Request No. 3 for a given month must file a report stating so on the fifteenth day of the following month. The monthly reports and updated reports required under Request No. 2, Request No. 3, and Request No. 4 utilize the same form and request the same information as the one-day reports required under Request No. 1.

This information collection provides NHTSA with information it needs to carry out its statutory mandate to protect the public against unreasonable risk of accidents occurring because of the design, construction, or performance of a motor vehicle, and against unreasonable risk of death or injury in an accident.

NHTSA recently requested and received emergency review and approval of this information collection. NHTSA submitted the request on June 29, 2021. On June 30, 2021, OMB granted NHTSA a six-month approval for this information collection and assigned this information collection the OMB control number 2127-0754. NHTSA is publishing this document to seek an extension of this information collection.

Description of the Need for the Information and Proposed Use of the Information

Under the National Traffic and Motor Vehicle Safety Act, as amended (the Safety Act), 49 U.S.C. Chapter 301, NHTSA is charged with authority “to reduce traffic accidents and deaths and injuries resulting from traffic accidents.” To carry out this statutory mandate, NHTSA has broad information gathering authority, including authority to obtain information on vehicle crashes, potential defects related to motor vehicle safety, and compliance with legal requirements to timely identify and conduct recalls for safety defects. 49 U.S.C. 30166(e), (g), 30118-30120; 49 CFR part 510.

NHTSA's statutory mandate includes the exercise of its authority to proactively ensure that motor vehicles and motor vehicle equipment, including those with novel technologies, perform in ways that protect the public against unreasonable risk of accidents occurring because of the design, construction, or performance of a motor vehicle, and against unreasonable risk of death or injury in an accident. 49 U.S.C. 30102. Both ADS and ADAS are “motor vehicle equipment” subject to the requirements of the Safety Act. Given the rapid evolution of these technologies and increasing testing of new technologies and features on publicly accessible roads, it is critical for NHTSA to exercise its oversight over potential safety defects in vehicles operating with ADS and Level 2 ADAS. The Safety Act is preventive, and the identification of safety defects does not and should not wait for injuries or deaths to occur.

ADS and ADAS are new technologies that fundamentally alter the task of driving a motor vehicle. Crashes involving vehicles equipped with these technologies have resulted in multiple fatalities and serious injuries, and NHTSA anticipates that the number of these crashes will continue to grow in the near future given the increased number of these vehicles on the road and the increased number of vehicle and equipment manufacturers in the market. The General Order provides the agency with critical and timely safety data, which assists the agency in identifying potential safety issues resulting from the operation of advanced technologies on public roads. Access to this crash data may show whether there are common patterns in vehicle crashes or systematic problems with specific vehicles or systems, any of which may reflect a potential safety defect.

NHTSA intends to evaluate whether specific manufacturers (including manufacturers of prototype vehicles and equipment) are meeting their statutory obligations to ensure that their vehicles and equipment are free of defects that pose an unreasonable risk to motor vehicle safety, or are recalled if such a safety defect is identified. NHTSA's oversight of potential safety defects in vehicles operating on publicly accessible roads using ADS or Level 2 ADAS requires that NHTSA have timely information on incidents involving those vehicles. In carrying out the Safety Act, NHTSA may “require, by general or special order, any person to file reports or answers to specific questions.” 49 U.S.C. 30166(g)(1)(A).

Affected Public: Vehicle and equipment manufacturers and operators of ADS or Level 2 ADAS equipped vehicles.

Estimated Number of Respondents: 110.

Frequency: Monthly and on occasion.

Estimated Total Annual Burden Hours: 11,745 hours.

To estimate the burden associated with this information collection, NHTSA separated the requirements of the General Order into seven components: (1) Incident reports involving Level 2 ADAS that must be submitted within one business day; (2) updates to incident reports involving Level 2 ADAS that must be submitted within ten days; (3) incident reports involving ADS that must be submitted within one business day; (4) updates to incident reports involving ADS that must be submitted within ten days; (5) monthly reports; (6) training employees on the requirements; and (7) time to set up an account to submit the reports. The burden associated with categories (6) and (7) are one-time start-up burdens that will be incurred during the proposed extension only to the extent that new reporting entities are added to the General Order during this period. For the 108 reporting entities currently named in the General Order, this burden has already been and was accounted for under the currently approved information collection request.

The estimated number of respondents consists of the number of reporting entities. NHTSA estimates that there will be an average of 110 reporting entities during each year of the proposed extension. Currently, there are 108 reporting entities named in the General Order. NHTSA believes that additional reporting entities will be added to the General Order during the proposed extension as new companies enter the market and begin developing and manufacturing ADS and ADAS technology and vehicles equipped with these technologies. NHTSA also believes that some existing reporting entities will be removed from the General Order due to the cessation of operations or market consolidation.

Incident reports involving Level 2 ADAS that must be submitted within one business day. To estimate the burden associated with submitting Level 2 ADAS crash reports, NHTSA first looked to the category of crashes that must be reported. As explained above, the General Order only requires reporting of Level 2 ADAS crashes when (1) the crash occurred on a publicly accessible road in the United States (including any of its territories); (2) the Level 2 ADAS was engaged at any time during the period from 30 seconds immediately prior to the commencement of the crash through the conclusion of the crash; and (3) the crash resulted in any individual being transported to a hospital for medical treatment, a fatality, a vehicle tow-away, an air bag deployment, or involved a vulnerable road user.² These crashes must be reported within one business day. Based on the number of manufacturers that manufacture vehicles equipped with Level 2 ADAS systems, NHTSA estimates that it will receive responses from 20 respondents reporting Level 2 ADAS crashes each year.

² A “vulnerable road user” is defined in the General Order to mean and include “any person who is not an occupant of a motor vehicle with more than three wheels. This definition includes, but is not limited to, pedestrians, persons traveling in wheelchairs, bicyclists, motorcyclists, and riders or occupants of other transport vehicles that are not motor vehicles, such as all-terrain vehicles and tractors.”

Further, after evaluating information available to the agency regarding the number of Level 2 ADAS crashes and the number of vehicles equipped with Level 2 ADAS, NHTSA estimates that it will receive, on average, 3,400 Level 2 ADAS crash reports each year. NHTSA believes this is a high-end estimate and will refine this estimate after seeking public comment. NHTSA expects that the number of crash reports submitted by each respondent will vary significantly, with some manufacturers submitting many more reports than others. However, on average, NHTSA estimates that each respondent will submit, on average 170 crash reports per year. NHTSA estimates that it will take respondents approximately 2 hours to compile and submit each crash report. Therefore, NHTSA estimates the total annual burden hours for submitting Level 2 ADAS crash reports to be 340 hours per manufacturer (2 hours × 170 crash reports) and 6,800 hours for all manufacturers (340 hours × 20 manufacturers).

Updates to incident reports involving Level 2 ADAS that must be submitted within ten days. In addition to submitting information on certain Level 2 ADAS crashes within one day, manufacturers must also submit updated information within ten days. NHTSA estimates that updating the crash reports will take approximately 1 hour per report. Therefore, NHTSA estimates that it will take each manufacturer approximately 170 hours each year to submit updated Level 2 ADAS crash reports (1 hour × 170 crash reports) and 3,400 hours for all Level 2 ADAS manufacturers (170 hours × 20 manufacturers).

Incident reports involving ADS that must be submitted within one business day. To estimate the number of one-day ADS crash reports NHTSA will receive in each year, NHTSA looked at the number of ADS crashes reported to California.³ There were 105 ADS crashes reported to California in 2019.⁴ NHTSA believes that it is reasonable to assume that about half of all ADS testing in the United States is occurring in California. Therefore, NHTSA expects that there will be approximately 200 ADS crashes in a year that manufacturers and operators will be required to report to NHTSA. Some of these crashes will be required to be submitted within one day and the rest will be required to be submitted on a monthly basis. The requirements for when ADS crashes must be reported within one day are the same as for Level 2 ADAS crashes: (1) The crash occurred on a publicly accessible road in the United States (including any of its territories); (2) the ADS was engaged at any time during the period from 30 seconds immediately prior to the commencement of the crash through the conclusion of the crash; and (3) the crash resulted in any individual being transported to a hospital for medical treatment, a fatality, a vehicle tow-away, or an air bag deployment or involves a vulnerable road user.

³ See https://www.dmv.ca.gov/portal/vehicle-industry-services/autonomous-vehicles/autonomous-vehicle-collision-reports/.

⁴ NHTSA chose to use the 2019 data instead of using data from 2020 or an average of the two years because of the impact of the COVID-19 health emergency on ADS operations. We note that this is overinclusive because reports are only due to NHTSA when the ADS was in operation shortly before or during the crash.

Based on NHTSA's review of the California crash reports, NHTSA believes that about half of the ADS crashes will be submitted in monthly reports, with the other half of crashes being submitted within one day. Therefore, NHTSA estimates that 100 ADS crash reports a year will be submitted within one day. NHTSA estimates that each ADS crash report will take 2 hours to complete and submit, including the time to submit updated reports. Therefore, NHTSA estimates the burden per respondent to be 2 hours (1 crash report × 2 hours) and 200 hours for all respondents (100 ADS crash reports × 2 hours).

Updates to incident reports involving ADS that must be submitted within ten days. In addition to submitting information on certain ADS crashes within one day, manufacturers and operators must also submit updated information within ten days. NHTSA estimates that updating the crash reports will take approximately 1 hour per report. Therefore, NHTSA estimates that it will take each manufacturer approximately 1 hour each year to submit updated ADS crash reports and 100 hours for all ADS manufacturers and operators (1 hour × 100 crash reports).

Monthly reports. This information collection requires respondents to submit monthly reports. ADS manufacturers and operators must report crashes in these monthly reports that are reportable but were not required to be submitted within one day. Additionally, both ADS manufacturers and operators and ADAS manufacturers will be required to submit information in monthly reports if they receive new material or materially different information about crashes for which the respondent already submitted reports (via one-day reports, 10-day update reports, or prior monthly reports). Further, as explained above, manufacturers and operators of ADS-equipped vehicles and Level 2 ADAS vehicles are required to submit monthly reports even when they do not have any new or updated crash reports under Request No. 2 or Request No. 3 to submit. If they do not have any reportable information under Requests Nos. 2 or 3, their monthly report is a simple certification. To estimate the burden of monthly reports, NHTSA considered the burden for monthly reports with initial ADS crash reports, monthly reports with updates to previously submitted crash reports, and those with certifications of no reportable information. NHTSA estimates there will be 110 Level 2 ADAS and ADS vehicle manufacturers and operators that will be required to submit monthly reports each year, for a total of 1,320 monthly reports annually.

NHTSA estimates that the burden for preparing and submitting monthly reports will vary depending on whether the monthly report includes no reportable information, new reportable information, or updates to previously submitted information. Some of these respondents may be required to submit only information about ADS crashes or Level 2 ADAS crashes and some may be required to submit information about both types of crashes. NHTSA estimates that because ADS equipped vehicles are often operated in small, controlled fleets, the reporting entities will readily know whether there have been any crashes that must be reported to NHTSA. Level 2 ADAS vehicles, however, are typically produced by large manufacturers and operated by consumers. Therefore, NHTSA estimates that each monthly report submitted by an ADS manufacturer or operator will take 15 minutes to submit, and for ADS manufacturers that have no reportable information to submit, this will be the only burden associated with submitting the monthly report. For manufacturers that also produce ADAS Level 2 vehicles, NHTSA estimates that submitting monthly reports will take 2 hours, which allow the manufacturer to verify whether the manufacturers have received any reportable information. NHTSA estimates that there will be 90 ADS manufacturers and operators and 20 manufacturers of Level 2 ADAS vehicles each year (including manufacturers that produce both Level 2 ADAS vehicles and ADS vehicles). Therefore, NHTSA estimates that annually respondents will spend 750 hours preparing and submitting monthly reports not including burden associated with providing new or updated reportable information (90 ADS manufacturers and operators × 12 monthly reports × 0.25 hours = 270 hours; 20 Level 2 ADAS manufacturers × 12 monthly reports × 2 hours = 480 hours; 270 + 480 = 750).

As described above, NHTSA estimates that there will be 200 ADS crash reports each year and 100 of those will be required to be submitted within one business day. The remaining 100 ADS crash reports will be submitted via monthly reports. NHTSA estimates that preparing and submitting monthly reports that contain crash reports to take, on average, 2 hours to prepare and submit. Therefore, NHTSA estimates the burden associated with preparing and submitting ADS crash report information that will be submitted in monthly reports to be 200 hours (100 monthly reports × 2 hours).

In addition to submitting information about new ADS crashes in monthly reports, respondents also are required to submit updated information in the following month if any new material or materially different information about any ADS or Level 2 ADAS incident is received. NHTSA estimates that for 20% of ADS crashes first reported in a monthly report (i.e., not a one-day report), respondents will need to submit updated information. For ADS and Level 2 ADAS crashes that are reported within one business day, NHTSA estimates that respondents will need to submit updated information in monthly reports for 5% of those crashes (these would be updates in addition to those reported within ten days). Therefore, NHTSA estimates that 195 monthly reports will include updated crash information (100 ADS crashes first reported in monthly reports × 0.2 = 20 3,400 Level 2 ADAS one-day crashes × 0.05 = 170; 100 ADS one-day crashes × 0.05 = 5; 20 + 170 + 5 = 195). NHTSA estimates that providing updated information within a monthly report will take 1 hour. Therefore, NHTSA estimates the burden for monthly reports with updated information to be 195 hours (195 monthly reports × 1 hour).

The total burden associated with monthly reports is estimated to be 1,145 hours (750 hours + 200 hours + 195 hours), which averages to about 10.4 hours per respondent.

Training employees on the requirements. In addition to the burden associated with preparing and submitting reports, any new reporting entities added to the General Order are also expected to incur burden associated with training employees on the reporting requirements. As explained above, the existing 108 reporting entities named in the General Order will not incur this burden during the requested extension. NHTSA estimates that there will be an average of seven new reporting entities added to the General Order each year during the proposed extension, that an average of five of these new reporting entities will be ADS manufacturers or operators and that an average of two of these new reporting entities will be Level 2 ADAS manufacturers.

NHTSA expects that ADS manufacturers and operators normally monitor all crashes and, therefore, will not need to train personnel on how to respond to this new information collection. NHTSA, however, does expect that some Level 2 ADAS manufacturers may need to spend time training personnel on the requirements. Although the amount of time may vary by manufacturer, NHTSA estimates that, on average, the two Level 2 ADAS manufacturers will spend 40 hours on training. Therefore, NHTSA estimates the total annual burden for training to be 80 hours (2 manufacturers × 40 hours).

Time to set up an account to submit the reports. NHTSA also estimates that new responding entities added to the General Order during the proposed extension period will need to set up a new account with NHTSA to allow them to submit reports. NHTSA estimates that each of the estimated average of 10 responding entities added to the General Order annually need to set up new accounts with NHTSA. NHTSA estimates that setting up an account will take 2 hours. Therefore, NHTSA estimates the total annual burden to be 20 hours.

NHTSA estimates the total annual burden hours for the seven components of this ICR to be 11,745 hours (6,800 hours for initial one-day Level 2 ADAS reports, 3,400 hours for updated one-day Level 2 ADAS reports, 200 hours for initial one-day ADS reports, 100 hours for updated ADS reports, 945 hours for monthly reports, 80 hours for training, and 20 hours for setting up new accounts).

To calculate the labor cost associated with preparing and submitting crash reports and reports, training, and setting up new accounts, NHTSA looked at wage estimates for the type of personnel involved with these activities. NHTSA estimates the total labor costs associated with these burden hours by looking at the average wage for architectural and engineering managers in the motor vehicle manufacturing industry (Standard Occupational Classification # 11-9041). The Bureau of Labor Statistics (BLS) estimates that the average hourly wage is $65.62.⁵ The Bureau of Labor Statistics estimates that private industry workers' wages represent 70.4% of total labor compensation costs.⁶ Therefore, NHTSA estimates the hourly labor costs to be $93.21. Accordingly, NHTSA estimates the total labor cost associated with the 11,745 burden hours to be $1,168,760.

⁵ See May 2020 National Industry-Specific Occupational Employment and Wage Estimates, NAICS 336100—Motor Vehicle Manufacturing, available at https://www.bls.gov/oes/current/naics4_336100.htm#15-0000 (accessed June 21, 2021).

⁶ See Table 1. Employer Costs for Employee Compensation by ownership (Mar. 2021), available at https://www.bls.gov/news.release/ecec.t01.htm (accessed June 21, 2021).

Table 1 provides a summary of the estimated burden hours and labor costs associated with those submissions.

Table 1—Burden Estimates
Description of information collection component | Number of responses (number of respondents) | Estimated burden per response (burden per respondent) (hours) | Average hourly labor cost | Labor cost per response | Total burden hours | Total labor costs
Level 2 ADAS one-day reports, initial | 3,400 (20) | 2 (340) | $93.21 | $186.42 | 6,800 | $633,828.
Level 2 ADAS one-day reports, update | 3,400 (20) | 1 (170) | 93.21 | 93.21 | 3,400 | 316,914.
ADS one-day reports, initial | 100 | 2 | 93.21 | 186.42 | 200 | 18,642.
ADS one-day reports, update | 100 | 1 | 93.21 | 93.21 | 100 | 9,321.
Monthly Reports | 1,320 (110) | 0.87 (10.4) | 93.21 | 80.85 | 1,145 | 106,724.45 (106,724).
Training | 2 (2) | 40 (40) | 93.21 | 3,728.40 | 80 | 7,456.80 (7,457).
Setting Up Account | 10 (10) | 2 (2) | 93.21 | 186.42 | 20 | 1,864.20 (1,864).
Total | 8,320 (110) |  |  |  | 11,745 | 1,094,751.

Estimated Total Annual Burden Cost

NHTSA does not currently know whether manufacturers will incur additional costs, nor does NHTSA have a basis for estimating these costs. However, in the interim, NHTSA believes manufacturers will be able to comply with requirements by only incurring labor costs associated with the burden hours.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. Chapter 35, as amended; 49 CFR 1.49; and DOT Order 1351.29.

Ann E. Carlson,
Chief Counsel.

[FR Doc. 2021-21203 Filed 9-29-21; 8:45 am]

BILLING CODE 4910-59-P